DEPARTMENT OF ENERGY

Federal Energy Regulatory Commission

[Project No. 2146-132]

Alabama Power Company; Notice of Application for Amendment of License and Soliciting Comments, Motions To Intervene, and Protests

Take notice that the following hydroelectric application has been filed with the Commission and is available for public inspection:

a. Application Type: Non-Project Use of Project Lands and Waters.

b. Project No: 2146-132.

c. Date Filed: May 18, 2011 and supplemented on September 30, and October 27, 2011.

d. Applicant: Alabama Power Company.

e. Name of Project: Coosa River Project.

f. Location: At Curley's Cove RV Park near the town of Cedar Bluff in Cherokee County, AL.

g. Filed Pursuant to: Federal Power Act, 16 U.S.C. 791(a)-825(r).

h. Applicant Contact: Keith E. Bryant, Alabama Power Company, 600 18th Street North, Birmingham, AL 35203. Phone: (205) 257-1403. email: kebryant@southernco.com.

i. FERC Contact: Tara Perry at (202) 502-6546; email: tara.perry@ferc.gov.

j. Deadline for filing comments, motions to intervene, and protests: November 28, 2011.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-2146-132) on any comments, motions, or recommendations filed.

k. Description of the Application: Alabama Power Company has filed a request for Commission approval to authorize Mr. David Debter (applicant) to expand an existing RV campground on 1.8 acres and construct a new picnic area on .3 acres at Curley's Cove RV Park. Construction will include 30 new RV campsite lots, each with a 20 Ft x 40 Ft concrete pad, utility (water, electric, and wastewater) connections, a new 1,500 gallon septic tank, a gravel road throughout the site, and streetlights between every other site. The day-use picnic area will include a pedestrian bridge (40 ft x 8 ft concrete deck on driven piles) from the RV Park, 4 open-sided 12 x 12 gazebos with 1 picnic table each, and a 20 ft x 30 ft pavilion with up to 5 picnic tables.

l. Location of the Application: This filing is available for review at the Commission or may be viewed on the Commission's Web site at http://www.ferc.gov, using the “eLibrary” link. Enter the docket number excluding the last three digits in the docket number field to access the document. You may also register online at http://www.ferc.gov/docs-filing/esubscription.asp to be notified via email of new filings and issuances related to this or other pending projects. For assistance, contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) Bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: October 28, 2011.
Kimberly D. Bose,
Secretary.

[FR Doc. 2011-28691 Filed 11-4-11; 8:45 am]

BILLING CODE 6717-01-P